DEPARTMENT OF DEFENSE

Office of the Secretary

Federal Advisory Committee Meeting; Military Leadership Diversity Commission (MLDC); Correction

AGENCY: Office of the Under Secretary of Defense for Personnel and Readiness, DoD.

ACTION: Meeting notice; correction.

SUMMARY: The Office of the Secretary of Defense published a document in the Federal Register on October 29, 2009 (74 FR 55825), announcing a Military Leadership Diversity Commission (MLDC) meeting on November 17 and 18, 2009. That document contained the correct meeting dates (November 17 and 18), but the days of the week (Wednesday and Thursday) are incorrect and are thereby corrected in this notice. The times, meeting location, and agenda topics are also correct.

FOR FURTHER INFORMATION CONTACT: Master Chief Steven A. Hady, Designated Federal Officer, MLDC, at (703) 602-0838, 1851 South Bell Street, Suite 532, Arlington, VA. E-mail Steven.Hady@wso.whs.mil.

SUPPLEMENTARY INFORMATION: In the Federal Register of October 29, 2009, in FR Doc. E9-26041 on pages 55825 and 55826, the following corrections are made:

On page 55825, in the third column, correct the DATES caption to indicate that the meeting will be held on Tuesday, November 17, 2009, and Wednesday, November 18, 2009:

DATES: The meeting will be held on Tuesday, November 17, 2009, from 8:30 a.m. to 3 p.m. and on Wednesday, November 18, 2009, from 8:30 a.m. to 6 p.m.

On page 55826, in the first column, correct the 1st and 17th lines under the heading “Agenda” to indicate that the meeting will be held on Tuesday and Wednesday:

Agenda

Tuesday, November 17, 2009 (1st line).

Wednesday, November 18, 2009 (17th line).

Dated: November 12, 2009.
Mitchell S. Bryman,
Alternate OSD Federal Register Liaison Officer, Department of Defense.

[FR Doc. E9-27538 Filed 11-16-09; 8:45 am]

BILLING CODE 5001-06-P